DEPARTMENT OF HOMELAND SECURITY

Coast Guard

33 CFR Part 117

[CGD05-03-180]

RIN 1625-AA09

Drawbridge Operation Regulations; Mullica River, NJ

AGENCY: Coast Guard, DHS.

ACTION: Notice of temporary deviation from regulations.

SUMMARY: The Commander, Fifth Coast Guard District, has approved a temporary deviation from the regulations governing the operation of the Green Bank Road Bridge across Mullica River, mile 18.0, at Green Bank, New Jersey. From 7 a.m. on November 3, 2003, through 11 p.m. on December 1, 2003, this deviation allows the bridge to remain closed to navigation. This closure is necessary to facilitate emergency mechanical and structural repairs.

DATES: This deviation is effective from 7 a.m. on November 3, 2003, through 11 p.m. on December 1, 2003.

FOR FURTHER INFORMATION CONTACT: Terrance Knowles, Environmental Protection Specialist, Fifth Coast Guard District, Bridge Section at (757) 398-6587.

SUPPLEMENTARY INFORMATION: The Green Bank Road Bridge is co-owned and operated by the Atlantic and Burlington Counties. However, the New Jersey Department of Transportation, as lead agency for the rehabilitation project, has requested a temporary deviation from the operating regulation set out in 33 CFR 117.735a. Currently, the draw of the Green Bank bridge shall open on signal unless at least four hours notice is given from April 1 through November 30, from 11 p.m. and 7 a.m.; and from December 1 through March 31, at all times.

The work involves the replacement of counterweight and main trunnion sections of the moveable span of the bridge. To facilitate the replacement, the work requires completely immobilizing the operation of the bascule span in the closed position to vessels from 7 a.m. on November 3, 2003, through 11 p.m. on December 1, 2003. The Coast Guard has informed the known users of the waterway of the closure period for the bridge caused by the temporary deviation.

The District Commander has granted temporary deviation from the operating requirements listed in 33 CFR 117.35 for the purpose of repair completion of the drawbridge. The temporary deviation allows the Green Bank Road Bridge across the Mullica River, mile 18.0, to remain closed to navigation from 7 a.m. on November 3, 2003, through 11 p.m. on December 1, 2003.

Dated: November 12, 2003.
Waverly W. Gregory,
Chief, Bridge Administration Section, Fifth Coast Guard District.

[FR Doc. 03-29390 Filed 11-24-03; 8:45 am]

BILLING CODE 4910-15-P